DEPARTMENT OF HOMELAND SECURITY

Customs and Border Protection

Notice of Revocation of Customs Brokers' Licenses

AGENCY: U.S. Customs and Border Protection, Department of Homeland Security.

ACTION: Revocation of customs brokers' licenses.

SUMMARY: This document provides notice of the revocation by operation of law of customs brokers' licenses.

FOR FURTHER INFORMATION CONTACT: Melba Hubbard, Branch Chief, Broker Management, Office of Trade, (202) 325-6986, melba.hubbard@cbp.dhs.gov.

SUPPLEMENTARY INFORMATION: This document provides notice that, pursuant to section 641 of the Tariff Act of 1930, as amended (19 U.S.C. 1641), and section 111.30(d) of title 19 of the Code of Federal Regulations (19 CFR 111.30(d)), the following customs brokers' licenses were revoked by operation of law, without prejudice, for failure to file a triennial status report. A list of revoked customs brokers' licenses appears below with both the port, which issued the licenses, and the brokers' names within the port of issuance whose licenses were revoked, set forth alphabetically.

Last name/company name | First name | License | Port name
Johnston | Kathy M | 20453 | Anchorage.
Klein | Brenda | 16428 | Anchorage.
Mader | Mary L | 14274 | Anchorage.
Allardice | Tracy Tumlin | 28429 | Atlanta.
American Global Logistics |  | 32153 | Atlanta.
Bell | Mark E | 12539 | Atlanta.
Blanc | Evelyne | 30706 | Atlanta.
Blanks | Vincent Elliot | 14816 | Atlanta.
Boyd | Kathryn T | 13387 | Atlanta.
Broyhill | Eric | 30594 | Atlanta.
CDS Global Logistics—One, LLC |  | 15473 | Atlanta.
Connerly | Lori | 16853 | Atlanta.
Egan | Dennis Michael | 11857 | Atlanta.
Elle International |  | 17244 | Atlanta.
FML Customs Brokers |  | 29827 | Atlanta.
Global Trade Strategies |  | 32349 | Atlanta.
Gore | Barbara Ann | 23612 | Atlanta.
Gutierrez | Alvaro D | 20427 | Atlanta.
Hoerner | Joel | 23507 | Atlanta.
Johnson | William G | 29328 | Atlanta.
Judd | Vicki | 22532 | Atlanta.
McNeil | Eric | 24159 | Atlanta.
Micek | Chester J | 20548 | Atlanta.
Scan Global Logistics, Inc |  | 20721 | Atlanta.
Schultz | Jeffrey R | 10390 | Atlanta.
Shaukat | Wendy | 22866 | Atlanta.
Travis | Elissa B | 06243 | Atlanta.
UPS Trade Management Services |  | 22343 | Atlanta.
USA Customs Brokers |  | 28465 | Atlanta.
Bales | Amy Diane | 16385 | Baltimore.
Billings | Leanna | 27441 | Baltimore.
Bonhoff | Tina M | 10985 | Baltimore.
Bruno | Ann T | 10526 | Baltimore.
Burgard | Marc A | 12272 | Baltimore.
Cruz | Janine Sheryl | 07466 | Baltimore.
Customs & Trade Solutions, LLC |  | 32375 | Baltimore.
Galvin Customs Brokerage, LLC |  | 30817 | Baltimore.
Heather Caporrino LLC |  | 32950 | Baltimore.
Higinbothom | Jean C | 09807 | Baltimore.
Higinbothom | John D | 09746 | Baltimore.
Kang | Boramae | 28251 | Baltimore.
M. O'Sullivan Brokerage & Logistics, Inc |  | 15438 | Baltimore.
Marchman | Mark | 30306 | Baltimore.
Martin | Vernon R | 09806 | Baltimore.
Nelson | David A | 07292 | Baltimore.
Rothenberg | Robert Anthony | 28370 | Baltimore.
Shapiro | M. Sigmund | 02355 | Baltimore.
Van Dine | Denise J | 13164 | Baltimore.
Yin | Ling | 21579 | Baltimore.
Alajajian | Anna | 4996 | Boston.
Anemoduris | Debra | 21884 | Boston.
Broderick | Helen | 12095 | Boston.
Cady | Anthony | 10172 | Boston.
Carignan | Dennis | 11426 | Boston.
Corrado | Bernadette | 23641 | Boston.
Coyle | Christopher | 12094 | Boston.
Curley | Dawn | 10102 | Boston.
Dawe | Mary Beth | 09898 | Boston.
Edmonds | Alan | 11367 | Boston.
Gagnon | Denise | 14774 | Boston.
Hopping | Ronald | 06479 | Boston.
Katzman | David | 04358 | Boston.
Lawless | James | 07655 | Boston.
Leeney | Marilynn | 09636 | Boston.
Lippman | William | 05538 | Boston.
Madden | Brenda | 06554 | Boston.
Mallon | Alanna | 20137 | Boston.
Mallon | Julie | 06214 | Boston.
Mayzel | Richard | 15803 | Boston.
McGinty | Kevin | 12640 | Boston.
Miller | James | 21669 | Boston.
Parker | Donna | 20799 | Boston.
Pelletier | David | 14046 | Boston.
Powell | Brent | 09255 | Boston.
Powell | Charles | 05279 | Boston.
Sawyer | Angela | 14206 | Boston.
Sheehan | John | 17150 | Boston.
Sheldon | Timothy | 11567 | Boston.
Swenson | Elyce | 09803 | Boston.
Tobin | Jeannette | 11568 | Boston.
Abbott, Jr. | James H | 06186 | Buffalo.
Ameno | James C | 09488 | Buffalo.
Bardo | Cindi | 31431 | Buffalo.
Bundt | Nancy A | 10326 | Buffalo.
Burdick | Paul | 28672 | Buffalo.
Doran | Hilary | 31662 | Buffalo.
Doran | Sean | 29547 | Buffalo.
Dye | Lorene C | 24079 | Buffalo.
Heinonen | Debra K | 20673 | Buffalo.
Homokay | Gaynor S | 06181 | Buffalo.
Houle | Dawn M | 13897 | Buffalo.
Johansen | Linda M | 20635 | Buffalo.
Johnston | Heather | 33507 | Buffalo.
Liptak | Diane T | 06815 | Buffalo.
Maras | Kevin R | 16429 | Buffalo.
Moran | Mary Beth M | 10323 | Buffalo.
Morley | Alan | 16667 | Buffalo.
Nocera | Paul M | 12407 | Buffalo.
Riscili | Patricia | 21505 | Buffalo.
Scanlon | Patricia | 29201 | Buffalo.
Snodderly | Charles A | 05651 | Buffalo.
Taylor | Janet M | 23190 | Buffalo.
Toombs | Coleen M | 16490 | Buffalo.
Walters | Judith Ann | 27493 | Buffalo.
Witt | Douglas F | 11672 | Buffalo.
Zynda | Jennifer | 23119 | Buffalo.
Baker | Ann | 20465 | Champlain.
Brannen | Jason | 28408 | Champlain.
Facey | Thomas W | 06039 | Champlain.
Glaude | Tammy L | 20464 | Champlain.
Kavanaugh | Robert Wayne | 04180 | Champlain.
Leahy | Michael T | 05387 | Champlain.
Moore | Susan J | 14416 | Champlain.
Ogden | Kiley | 31572 | Champlain.
Paola | Rose | 14492 | Champlain.
Sterling | Linda | 12284 | Champlain.
Tremblay | Debra Ann | 13914 | Champlain.
Adamson | Jacqueline H. Hynes | 10424 | Charleston.
Alexander | Renee | 10158 | Charleston.
Amaro | Carolyn | 17325 | Charleston.
Anderson | Frances B | 09196 | Charleston.
Apter | Thomas David | 12533 | Charleston.
Avakian | Samuel George | 14411 | Charleston.
Bannish | Susan Elizabeth | 16234 | Charleston.
Barry | Andrea L | 21237 | Charleston.
Bishop | James Robert | 10647 | Charleston.
Blanks | Caroline Ruth | 20797 | Charleston.
Blatchford | Deborah Ann | 13823 | Charleston.
Boghani | Rikhav Bharat | 27419 | Charleston.
Brown | Michele E | 17520 | Charleston.
Cudworth | Jennifer S | 30576 | Charleston.
Daugherty | Lindsey | 31252 | Charleston.
Delgado-King | Wendy | 30020 | Charleston.
Diamond | Carol A | 14342 | Charleston.
Eagen | Anne Taylor Arnett | 24252 | Charleston.
Estes Air Forwarding, LLC |  | 24229 | Charleston.
Exline | H. Deborah | 10556 | Charleston.
Fosberry | Donald Eugene | 10558 | Charleston.
Fowler | Michael B | 10560 | Charleston.
Gilmore | Jeremy | 31989 | Charleston.
Hester | Tobe | 29016 | Charleston.
International Forwarders, Inc |  | 02837 | Charleston.
International Trade Consultants, Inc |  | 21601 | Charleston.
Lamb | Joseph Paul | 29042 | Charleston.
Llavore | Catherine Z | 15294 | Charleston.
Newman | Nancy C. Fabian | 09682 | Charleston.
Nichols | William R | 10563 | Charleston.
Philpott | Debra W | 15157 | Charleston.
Quick | Tracy Hannah | 29144 | Charleston.
Sauers | Tracy Evans | 09604 | Charleston.
Schuler | Sharon A | 09169 | Charleston.
Sparwasser | Roger Paul | 15895 | Charleston.
Spivey | Michael Hank | 31296 | Charleston.
Walsh-Pierpoint | M. Diane | 23569 | Charleston.
Williams | Emily Petrusa | 28310 | Charleston.
Willoughby | Susan | 10567 | Charleston.
Witte | Deborah S | 09665 | Charleston.
Allen | Robert S | 15428 | Charlotte.
Bennett Jr. | Samuel | 6968 | Charlotte.
Berryman | Diane | 15000 | Charlotte.
Bibey | Laura | 16911 | Charlotte.
Brewer | Grace | 31833 | Charlotte.
Curtis | Jim | 22525 | Charlotte.
Daybreak Logistics, Inc |  | 22168 | Charlotte.
Girvin | Lisa E | 27674 | Charlotte.
Halaz | Edward | 20441 | Charlotte.
Hammer | Bruce | 15149 | Charlotte.
Horne | Gary N | 20331 | Charlotte.
Howell | Jeffrey | 34007 | Charlotte.
Kotterer | Lisa T | 14478 | Charlotte.
Martin | Brady | 21566 | Charlotte.
Masten | Linda B | 06481 | Charlotte.
Mc Mahon | Katherine | 14966 | Charlotte.
Roberts | Gary Jerome | 10166 | Charlotte.
Stuckey | Joshua | 31752 | Charlotte.
Sutter | Theodore W | 17287 | Charlotte.
Thomas | Andrew | 28907 | Charlotte.
Zaun | Lisa M | 28121 | Charlotte.
Anderson | Catherine A | 16013 | Chicago.
Anderson | Laura C | 16064 | Chicago.
Barnard | Helen T | 13787 | Chicago.
Brancato | Matthew F | 14029 | Chicago.
Bruno | Angela J | 11659 | Chicago.
Ciaccio | Donna L | 14565 | Chicago.
Cole | Michelle M | 10833 | Chicago.
Collignon | Connie L | 14566 | Chicago.
Covemaker | Colleen | 29545 | Chicago.
Darrow | Jennifer S | 23434 | Chicago.
Domek | Edward J | 4164 | Chicago.
Dreger | Janice M | 15343 | Chicago.
English | Richard D | 7539 | Chicago.
Fee | Garnet J | 22254 | Chicago.
Fife | Nancy K | 14897 | Chicago.
Gallagher | James P | 14587 | Chicago.
Garand | Robert N | 10737 | Chicago.
Gaudi | Peggy R | 23216 | Chicago.
Gayheart | Henry | 21466 | Chicago.
Gensch | Catherine I | 10875 | Chicago.
Goodwin | Deboraha B | 15314 | Chicago.
Graf | Jeanne Marie | 22183 | Chicago.
Guarino | Candice M | 23889 | Chicago.
Hester | Kelly | 14296 | Chicago.
Hooper | Robert M | 5127 | Chicago.
Issa | Samar | 14706 | Chicago.
Lukas | Judith Ann | 12214 | Chicago.
Malina | David J | 12827 | Chicago.
McGuire | Michele E | 16512 | Chicago.
Mucha | Jeanette L | 9748 | Chicago.
Neubauer | Donald P | 9078 | Chicago.
Oh | Marshall | 9971 | Chicago.
Padavic | Joseph B | 22814 | Chicago.
Pierce | Janet S | 14327 | Chicago.
Rago | Elizabeth M | 11587 | Chicago.
Roll | Denise J | 31285 | Chicago.
Saving Shipping & Forwarding Usa, Inc |  | 21808 | Chicago.
Schillace | Anthony T | 11270 | Chicago.
Schulz | Emily Kathleen | 29665 | Chicago.
Schulz | Jeremiah Joseph | 29384 | Chicago.
Seely | Robert F | 17013 | Chicago.
Snodell | Kathleen | 7567 | Chicago.
Speer | Timothy P | 24191 | Chicago.
Strahl | Helen M | 23888 | Chicago.
Strategic Global Trade, Inc |  | 31072 | Chicago.
Sutton | Cheryl L | 11418 | Chicago.
Tarbell | Kathryn A | 20690 | Chicago.
Tarsa | Catherine A | 22197 | Chicago.
Tarte | Robert R | 7052 | Chicago.
Tayler | Robert M | 16067 | Chicago.
Verden | Ellen F | 16454 | Chicago.
Watkins | David S | 22881 | Chicago.
Woodfork | Ashley | 32761 | Chicago.
Zabka | Robert Allen | 13092 | Chicago.
Adams | Robert L | 23918 | Cleveland.
Apke | Kristina B | 16557 | Cleveland.
Beam | Michelle | 23453 | Cleveland.
Blakely | Saundra | 20909 | Cleveland.
Blum | Judith A | 11054 | Cleveland.
Boggs | Cynthia M | 22128 | Cleveland.
Boley | Connie Jean | 21173 | Cleveland.
Burroughs | Jacqueline L | 20601 | Cleveland.
Caro | Linda J | 22415 | Cleveland.
Coe | Betsie J | 15871 | Cleveland.
Cray | Laurence E | 19654 | Cleveland.
Frazier | Patricia | 31249 | Cleveland.
Gettelfinger | Anthony J | 12431 | Cleveland.
Green | Althea K | 11112 | Cleveland.
Horn | Michael L | 17448 | Cleveland.
Interchez Global Services, Inc |  | 29723 | Cleveland.
Kalvig | Douglas A | 22440 | Cleveland.
Keller | Mary E | 09854 | Cleveland.
Koropey | Oleh | 21172 | Cleveland.
Laughman | Heather L | 13237 | Cleveland.
Lietz | James H | 17530 | Cleveland.
Loszack | Cynthia | 21549 | Cleveland.
Matthews | Judy A | 07402 | Cleveland.
Mc Cray | Judith K | 22723 | Cleveland.
Mc Fadden | Jeffrey R | 11614 | Cleveland.
McClellan | Cassie Sharlene | 29105 | Cleveland.
Mitchell Jr. | Richard A | 11052 | Cleveland.
Montgomery | Samuel L | 14527 | Cleveland.
Muhlenkamp | Isaac B | 28738 | Cleveland.
Nield | Sherri L | 23370 | Cleveland.
Oyler | Karen M | 23097 | Cleveland.
Perin | Brooke Ellen | 21311 | Cleveland.
Resnick | Marc | 32221 | Cleveland.
Schiess | Paula | 15028 | Cleveland.
Schoerverth | Gayle | 20229 | Cleveland.
Sidoti | Capri M | 22811 | Cleveland.
Slepecky | Ruth A | 27389 | Cleveland.
Svendson | David A | 13495 | Cleveland.
Triplett | Brian | 10148 | Cleveland.
Tullio | Rennee De | 22129 | Cleveland.
Turner | Thomas J | 15187 | Cleveland.
Vaughn | Kay A | 12208 | Cleveland.
Voss | Thomas G | 15648 | Cleveland.
Wheeler | Martha J | 15899 | Cleveland.
Widlicka | Bruce A | 21879 | Cleveland.
Wolber | John C | 27840 | Cleveland.
Abbott | Charlotte T | 09203 | Dallas/Ft. Worth.
Cashion | Brenda M | 27405 | Dallas/Ft. Worth.
Caver | Joelle L | 29136 | Dallas/Ft. Worth.
Hendrick | Andrea K | 15402 | Dallas/Ft. Worth.
Hernandez Jr. | Silverio | 05792 | Dallas/Ft. Worth.
Kwok | Patricia L | 16402 | Dallas/Ft. Worth.
Laden | Michael D | 06801 | Dallas/Ft. Worth.
Martin | Thomas D | 21969 | Dallas/Ft. Worth.
Pushor | Kristen Ashley | 33088 | Dallas/Ft. Worth.
Renteria | Susan Christine | 21180 | Dallas/Ft. Worth.
Rindfuss | Robert McQueen | 22386 | Dallas/Ft. Worth.
Rush | Kendall | 32040 | Dallas/Ft. Worth.
Sartin | Monica D | 22548 | Dallas/Ft. Worth.
White | David L | 20320 | Dallas/Ft. Worth.
Wright | Royal Glen | 23001 | Dallas/Ft. Worth.
Berg | Donnell Elizabeth Stocker | 14726 | Detroit.
Bridenbaugh | Richard G | 24371 | Detroit.
Brosko | Collin | 32952 | Detroit.
Carnes | Carol A | 11008 | Detroit.
Cesarek | Ryan B | 24231 | Detroit.
Corby | Judith Ann | 05139 | Detroit.
Customs Services International, Ltd |  | 10394 | Detroit.
Davies | Lynne | 20403 | Detroit.
Free Trade Automation LLC |  | 32244 | Detroit.
Gavini | Anu | 14977 | Detroit.
Gilkerson | Vickie Sue | 10227 | Detroit.
Henderson | Harold J | 05038 | Detroit.
Hutchens | Eric | 09964 | Detroit.
Johnson | Carol | 17292 | Detroit.
Kavanaugh | Sara M | 22535 | Detroit.
Kramer | James Francis | 03862 | Detroit.
Krueger | Karl F | 12435 | Detroit.
Lafeve | Beth Ann | 13409 | Detroit.
Mabrey | Anthony | 17270 | Detroit.
Mathew | Melissa | 23556 | Detroit.
Maynard | Mary F | 11026 | Detroit.
McKissack | Julie Raye | 16342 | Detroit.
Meade | Richard William | 04847 | Detroit.
Meck International Trade Services, LLC |  | 31865 | Detroit.
Montroy | Jonalyn M | 17382 | Detroit.
Morrow | William A | 17018 | Detroit.
Moyer | Janis L | 22628 | Detroit.
Polturanus | James Anthony | 09317 | Detroit.
Rivard | Cindy J | 13077 | Detroit.
Salden | Nicolas S | 32344 | Detroit.
Scherbey | Nestor A | 06071 | Detroit.
Schmidt | Donna R | 32555 | Detroit.
Singular Tariff Solutions Ltd |  | 29381 | Detroit.
Smith | Kevin M | 09772 | Detroit.
Smith | Evan | 12789 | Detroit.
Stair | Gregory D | 28027 | Detroit.
Stark | Debrah | 21208 | Detroit.
Tanton | Jeffrey T | 06541 | Detroit.
Thomas-Mellema | Amy | 17549 | Detroit.
Upton | Christina Marie | 07666 | Detroit.
Villiard | Robert J | 05281 | Detroit.
Walter | Susan E | 11678 | Detroit.
Wilk | Gerald | 09961 | Detroit.
Willy | Sheryl J | 21526 | Detroit.
Zhong | Ling | 20399 | Detroit.
Aguayo | Sylvia E | 29176 | El Paso.
Alcantar | Richard | 05469 | El Paso.
AMA Freight USA, LLC |  | 23377 | El Paso.
Castorena | Sylvia C | 15951 | El Paso.
Eagen | Dinora | 29854 | El Paso.
Guerra | Sara M | 16692 | El Paso.
Mena | Antonia | 21044 | El Paso.
Miles | Rudolph Martin | 04635 | El Paso.
Moses | Kenneth P | 15123 | El Paso.
O'Quinn | Allen Neil | 20901 | El Paso.
Pond | Jared Farrell | 30015 | El Paso.
Schayer, III | Charles M | 04544 | El Paso.
Spears | Paul Gordon | 11668 | El Paso.
Trans-Expedite, Inc |  | 23203 | El Paso.
Valdez | Jose Maria | 05761 | El Paso.
Warren | Sara Veloz | 13375 | El Paso.
Amos | Debra Walke | 13560 | Great Falls.
Bridgeman | Michael R | 28160 | Great Falls.
Brodsho | Randall K | 21604 | Great Falls.
Denver Customs Brokerage, LLC |  | 31154 | Great Falls.
Fisher | Amy D | 17318 | Great Falls.
High Desert CHB, Inc |  | 20270 | Great Falls.
Jackson | Tanner Scott | 32438 | Great Falls.
Jesser | Samantha Jo | 29003 | Great Falls.
Kellerman | Charles | 11647 | Great Falls.
Kennedy | Donald James | 07319 | Great Falls.
Knight | Damon T | 21007 | Great Falls.
Ly | Dao | 30402 | Great Falls.
Norris | Jeffery Amos | 28531 | Great Falls.
Ohman | Benjamin | 31871 | Great Falls.
Oliver | Douglas H | 22231 | Great Falls.
Olsen | Kimber J | 14815 | Great Falls.
Reid | Rex Kyle | 23161 | Great Falls.
Rogers | Deborah A | 14020 | Great Falls.
Rogers | Robert Dean | 11558 | Great Falls.
Samsal | Randi | 17563 | Great Falls.
Schmude | Frederick E | 20121 | Great Falls.
Slaven | Kerry Michael | 16980 | Great Falls.
Stuart | Mary Jo | 16391 | Great Falls.
Sveum | Martin J | 07318 | Great Falls.
West | Louise Schiller | 22693 | Great Falls.
Zimmerman | Connie R | 10895 | Great Falls.
Alexander | Brenda J | 9371 | Houston.
Andre | Michael | 30105 | Houston.
Blasdel | Patricia | 5625 | Houston.
Boortz | Linda Demny | 11240 | Houston.
Brown | Aquanella J | 9927 | Houston.
Castaing | Richard W | 11560 | Houston.
Couts | Susan J | 7551 | Houston.
Doughty | Travis | 16579 | Houston.
Escobar | Lois | 7329 | Houston.
Fleetwood Shipping, Inc |  | 9994 | Houston.
Gregersen | Gerda | 10970 | Houston.
Hajovsky | Daphne | 6700 | Houston.
Holzheauser | Steven G | 11694 | Houston.
Huggard | Joseph M | 23718 | Houston.
Johnson | Sean Thomas | 22624 | Houston.
Lee, Jr | Herbert | 16240 | Houston.
Lewis | Nicole | 29178 | Houston.
Lindsay | John | 15804 | Houston.
Naujoks | Diane C | 32903 | Houston.
Osterland | Pamela J | 9905 | Houston.
Prasla | Arif Ali | 32982 | Houston.
Quality Customs Brokers, Inc |  | 10464 | Houston.
Ramos, Jr | Jose A | 5284 | Houston.
Reeder | Pamela P | 9740 | Houston.
Samson | Michael H | 4350 | Houston.
Shimada | Mitchell M | 13770 | Houston.
Skweres | Emily Sue | 12385 | Houston.
Sowda | Stephen A | 15261 | Houston.
Stanka | Jean | 12120 | Houston.
Vieira De Macedo | Felipe | 33184 | Houston.
Wick | Carl J | 6036 | Houston.
Wills | Marion | 5121 | Houston.
Wood | Ruby L | 7050 | Houston.
Ballard | Willison | 12538 | Laredo
Cowen | Thomas Anthony | 09165 | Laredo.
Craig | Robert E | 12537 | Laredo.
Garcia | Diana T | 5306 | Laredo.
Mc Keown | Jeanette M | 12027 | Laredo.
Mc Namara | James J | 06984 | Laredo.
Montes De Oca | Monica G | 22409 | Laredo.
Pena, III | Florencio | 12287 | Laredo.
Puente | Teresa M | 11640 | Laredo.
Ray | Audie E | 06787 | Laredo.
Roberson | Charles A | 29597 | Laredo.
Aspen | Linda Louise | 13752 | Los Angeles.
B. J. Customs Brokerage Co., Inc |  | 13604 | Los Angeles.
Boerner | Fredric Harold | 22368 | Los Angeles.
Boucher | Michael Louis | 13307 | Los Angeles.
Brown | Valerie Jean Abe | 11778 | Los Angeles.
Chen | Sunny | 21409 | Los Angeles.
Conant | Pyung Ok | 29428 | Los Angeles.
DeJarnett | Diane Marie | 22526 | Los Angeles.
Del Rio | Belinda M | 09790 | Los Angeles.
Edward P. Tallon Customs Brokers, Inc |  | 22687 | Los Angeles.
Feehan | Denis Owen | 16935 | Los Angeles.
Fernandes | Antonio Silvano | 09823 | Los Angeles.
Ferrari | Jane Sashpid | 13249 | Los Angeles.
Garcia | Richard Jose | 07205 | Los Angeles.
Hager | Donna Renee | 09342 | Los Angeles.
Hamanaka | Ken | 03363 | Los Angeles.
Han | Brian S | 29838 | Los Angeles.
Han | James | 31417 | Los Angeles.
Hoff | Christopher Eric | 16333 | Los Angeles.
Huerta | Heriberto | 15552 | Los Angeles.
Jiang | Jacy | 22040 | Los Angeles.
Jordan | David Frank | 16529 | Los Angeles.
Karimi | Ali | 29939 | Los Angeles.
Karrian | Vahe | 17043 | Los Angeles.
Kim | Alexander Buyong | 29398 | Los Angeles.
Kim | Andy Min | 33308 | Los Angeles.
Kim | Eric | 33517 | Los Angeles.
Krueger | Michael Rudolph | 03555 | Los Angeles.
Lam | Daisy Cuc | 16161 | Los Angeles.
Laurie | Jane E | 11171 | Los Angeles.
Lee | Nam Joo | 09876 | Los Angeles.
Low | Allan Terrence | 09835 | Los Angeles.
Luong | Brian Duc | 17354 | Los Angeles.
Luong | Jessica | 22529 | Los Angeles.
Ma | Anthony Hung Kay | 13582 | Los Angeles.
Mallard | Christine Lee | 16929 | Los Angeles.
Mc Clure-Lee | Lydia Ann | 14850 | Los Angeles.
Miller | Vivian Corinne | 09393 | Los Angeles.
Mitchell | Craig Alan | 07444 | Los Angeles.
Murray | Linda L | 10634 | Los Angeles.
Nakamura | Toshio | 05964 | Los Angeles.
Nimmo-Price | Elisabeth | 07597 | Los Angeles.
Palacios | Anatilde Carmen | 06297 | Los Angeles.
Petty | Cynthia | 30500 | Los Angeles.
Plazas | Carlos Edmundo | 07881 | Los Angeles.
Rathgeber | Carole L | 22185 | Los Angeles.
Reid | Paul Wesley | 14297 | Los Angeles.
Reiner | Janet S | 08068 | Los Angeles.
Sapida | Armorsito Canaon | 11832 | Los Angeles.
Shill | Joseph Gregory | 09333 | Los Angeles.
Snyder | Robert Alan | 17086 | Los Angeles.
Tallon | Edward Paul | 06618 | Los Angeles.
Tang | James Bing Jarm | 05939 | Los Angeles.
Tubbs | George Allen | 13950 | Los Angeles.
Turk | Carrie Margaret | 16502 | Los Angeles.
Wagner | Wayne | 23005 | Los Angeles.
Weaver | Richard Roy | 07618 | Los Angeles.
Yi | Song Han | 28004 | Los Angeles.
Hopper | Jonathan | 28971 | Memphis.
Kay | Karen | 30626 | Memphis.
Roye | Vicki | 20281 | Memphis.
Shelton | John | 31084 | Memphis.
A2Z Logistics, Corp |  | 33091 | Miami.
Abello-Rivera | Aileen | 32455 | Miami.
Absolute Freight Services, Inc |  | 16711 | Miami.
Acevedo | Edwin | 10066 | Miami.
Action Brokerage Corporation |  | 21815 | Miami.
Aircargo Brokerage Co |  | 4369 | Miami.
All World Inc |  | 14581 | Miami.
Amor | David | 14679 | Miami.
Aveille | Michael | 7120 | Miami.
Batalini | Maria L | 16992 | Miami.
Borrelli | Carmela M | 12796 | Miami.
Briggs, Jr | Robert Edson | 24164 | Miami.
Carrillo | Maria Belen | 23878 | Miami.
Chadwick | James R | 15632 | Miami.
Contreras | David | 15685 | Miami.
Cook | Travis T. Maclean | 28534 | Miami.
Cross | Jeffery Carlton | 15362 | Miami.
Cruz | Robert | 20092 | Miami.
Danesi Customs Brokers, LLC |  | 27685 | Miami.
Diamond Customs Brokers, Inc |  | 31880 | Miami.
Dolphin Brokerage International Inc |  | 12033 | Miami.
Echevarria | Gonzalo Miguel | 23430 | Miami.
Estevez | Edward | 16279 | Miami.
Express Brokers, Inc |  | 20706 | Miami.
Fast Global Logistics, Inc |  | 14493 | Miami.
Francisco | Carlos A | 22011 | Miami.
Garrido | Consuelo | 7547 | Miami.
Gil | Francisco J | 5640 | Miami.
Gonzalez | Robert | 24098 | Miami.
Hernandez | Abby | 33407 | Miami.
Hernandez | Christopher Andre | 33735 | Miami.
Hernandez | Jorge M | 5444 | Miami.
Herrick | Kathy M | 16778 | Miami.
ILS Cargo Corp |  | 29323 | Miami.
Karakaeva | Maya | 30893 | Miami.
Keightley | Michael | 14266 | Miami.
Kennedy-Erb | Sandra Lynn | 14175 | Miami.
Knowles | John A | 4413 | Miami.
Kuepker | David G | 4148 | Miami.
Leon | Emilio P | 7570 | Miami.
Lewin Logistics, Inc |  | 23438 | Miami.
Liu | Alice | 20216 | Miami.
Llach | Henry | 20384 | Miami.
Logan | Janet L | 21124 | Miami.
Lopez | Alexander Joseph | 31310 | Miami.
M & H Brokerage, Inc |  | 03723 | Miami.
M.I.A.O.K. CHB Inc |  | 33081 | Miami.
Manaco International Forwarders, Inc |  | 31899 | Miami.
Mejia | Ricardo A | 29763 | Miami.
Menezes | Rodger Albert | 10755 | Miami.
Neutralogistics Customs Brokerage, LLC |  | 27637 | Miami.
Nistal | Salvador | 4329 | Miami.
Nordlund | Marie-Claire | 15417 | Miami.
Olaechea | Brenda M | 15517 | Miami.
Paula | Laura | 21123 | Miami.
Perez | Clara Helena | 16742 | Miami.
Perris | Carmela Eva | 14174 | Miami.
Pignato | Damiano J | 15604 | Miami.
Posada | Freda Lori | 15635 | Miami.
Propsom | Jason John | 16803 | Miami.
Puga | Carmen E | 7267 | Miami.
Quintero | Vivian | 15447 | Miami.
Randall | James David | 12816 | Miami.
Randazzo | Marc Allen | 20742 | Miami.
Redlhammer | Albert J | 11358 | Miami.
Regan | Michael | 12440 | Miami.
Ricotti | Ricardo Alberto | 9858 | Miami.
Ripoll | Francisco M | 17458 | Miami.
Roberts | Penny L | 15762 | Miami.
Rodriguez | Alberto | 16425 | Miami.
Rodriguez | Jose A | 20509 | Miami.
Rodriguez | Roman | 4044 | Miami.
Schreier | Susann Elaine | 16809 | Miami.
Siddiqui | Catherine S | 27746 | Miami.
Silvers | Barry A | 4803 | Miami.
Smith | Clive | 20385 | Miami.
Soll | Martin A | 11059 | Miami.
Soto | Luis A | 15565 | Miami.
Swift Customs House Brokers LLC |  | 28023 | Miami.
Thorin | Juan Felipe | 22157 | Miami.
Torre-Verdejo | Jorge Luis | 5060 | Miami.
Torres | Harry M | 20213 | Miami.
Valdes | Rodolfo | 21101 | Miami.
Valle | Leylania Del | 15687 | Miami.
Windstar Customs Brokers, Inc |  | 22818 | Miami.
Borges | Elisio F | 31771 | Milwaukee.
Guevara | Marcos E | 31798 | Milwaukee.
Hubbard | Paula J | 15304 | Milwaukee.
Levin | Tague | 30234 | Milwaukee.
O'Brien | Dennis J | 21100 | Milwaukee.
Spreeman | Beverly J | 29974 | Milwaukee.
Boetcher | Marly C | 22546 | Minneapolis.
Christensen | Paige J | 13482 | Minneapolis.
DeSalvo | Serge R | 10794 | Minneapolis.
Dumer | Michael L | 23130 | Minneapolis.
Eckman | Jennifer | 30002 | Minneapolis.
Frank | Kathleen H | 12143 | Minneapolis.
Heie | Mary B | 12371 | Minneapolis.
Hopkins | Kami | 31101 | Minneapolis.
Houska | Robert T | 03133 | Minneapolis.
Kittell | Patricia J | 16879 | Minneapolis.
Ritchie | Bonnie L | 10161 | Minneapolis.
Scott | Kathryn | 30619 | Minneapolis.
Thompson | Sherry L | 15353 | Minneapolis.
Tierney | Michael R | 31698 | Minneapolis.
Westberg | John | 28909 | Minneapolis.
Carrol | John | 19707 | Mobile.
Emerson | Cathryn | 17099 | Mobile.
Navarra | Charles | 31728 | Mobile.
Aufdenkamp | Brett | 20782 | New Orleans.
Banks | Natasha | 22758 | New Orleans.
Callonas | Michael | 21697 | New Orleans.
Foster | Sherry | 15063 | New Orleans.
Holder | David | 21472 | New Orleans.
Kiang | Kyle | 22238 | New Orleans.
Legins | Kenneth | 21834 | New Orleans.
McDowell | Debra | 21748 | New Orleans.
Perez | Silvia M | 11234 | New Orleans.
Russell | Marsha | 10196 | New Orleans.
Solis | Marco | 17306 | New Orleans.
Walker | Robert | 21002 | New Orleans.
Wilbourn | Brooks | 16523 | New Orleans.
Williams | Sarah | 24235 | New Orleans.
Abrams | Paul J | 23306 | New York.
Aldamuy | Cheyenne | 05857 | New York.
ALLCustoms, Inc |  | 27474 | New York.
Anderson | Raymond E | 06860 | New York.
Andreyev | Naran L | 13407 | New York.
Associated Global Systems, Inc |  | 27451 | New York.
Aulbach | Karen | 20741 | New York.
Baker | Lawrence | 07461 | New York.
Bates | James R | 07055 | New York.
Baumgartner | Benjamin W | 32874 | New York.
Bekker | Yelena | 28181 | New York.
Belekis | Donna | 09149 | New York.
Blasucci | Maureen | 09321 | New York.
Blue Water Shipping U.S., Inc |  | 30989 | New York.
Bonatesta | Anthony J | 04019 | New York.
Bosseckert | Nancy L | 07913 | New York.
Boyd | Lawrence A | 05762 | New York.
Britton | Patricia Johnson | 07769 | New York.
Buscemi | John T | 27991 | New York.
Byrne | Susan | 20107 | New York.
Caldera | Michael A | 17400 | New York.
Catalfamo | Philip M | 17133 | New York.
Cesare | Flavia | 12509 | New York.
CFF World Freight Corp |  | 17259 | New York.
Cha | Christopher Y | 13320 | New York.
Chen | Kayla | 28529 | New York.
Chin | Donald K | 13003 | New York.
Choo | Patricia M | 10622 | New York.
Chou-Wong | Ming Chu | 24089 | New York.
Cline | James A | 09945 | New York.
Colon | Jordan | 32257 | New York.
Comisar | Marlene S | 20311 | New York.
Conte | Joseph A | 08061 | New York.
Cordano | Thomas | 05509 | New York.
Cretella | Regina | 07222 | New York.
Crowe | Laura Diane | 16062 | New York.
Curran | James E | 10118 | New York.
Darnowski | Richard | 07450 | New York.
De Gouveia | George A | 06861 | New York.
Dhara | Doenarine | 16244 | New York.
Diaz | Irene D | 20977 | New York.
DiMarco | William R | 05211 | New York.
Ditkowsky | Joel | 07840 | New York.
Donahue | Martin | 09144 | New York.
Farella | Steven F | 10232 | New York.
Ferreira | George | 04487 | New York.
Firriolo | Anthony S | 03369 | New York.
Gabbert | Charles A | 16435 | New York.
Gabelman | William E | 07112 | New York.
Galligan | Kevin | 27769 | New York.
Gebbie | John W | 05406 | New York.
Genghis Khan Freight Service, Inc |  | 07370 | New York.
Gonzalez | Edward | 13879 | New York.
Gorgone | Joseph | 09713 | New York.
Greco | Thomas R | 09311 | New York.
Greenlee | Andrew | 29944 | New York.
Guglielmo | Augustine | 05244 | New York.
Guluzzi | Michael | 06933 | New York.
Gunnerson | Adam | 32138 | New York.
Hanifin | Jerome L | 17449 | New York.
Hansson | Donald A | 10772 | New York.
Hardy | Robert W | 11294 | New York.
Hauser | Stewart B | 03878 | New York.
Ho | Antony Kin Kei | 21875 | New York.
Ho | Jacky Zhaojie | 28070 | New York.
Hotaling | John P | 10764 | New York.
Huang | Michael Shuen | 31554 | New York.
Hubers | John H | 10704 | New York.
Kaszubski | Louis A | 14447 | New York.
Kayal | Kenneth | 21759 | New York.
Kelly | Edward | 22329 | New York.
Kim | Chae Jung | 09646 | New York.
Knipper | Esta | 13892 | New York.
Kreps | Carol L | 11445 | New York.
Kukanza | Thomas | 33615 | New York.
Kwon | Samuel | 30095 | New York.
Lambert | Steven | 07485 | New York.
Landau | Yolanda | 05634 | New York.
Lee | William Jeong Do | 28607 | New York.
Leimgruber | Rolf | 13465 | New York.
Lewin | Kirk E | 22463 | New York.
Li | Levi | 29213 | New York.
Li | Linda | 32876 | New York.
Lian | Minqi | 31005 | New York.
Lim | Steve S | 14636 | New York.
Lin | Patrick | 29101 | New York.
Liu | Yinan | 29569 | New York.
Lombardi | Carmela | 21908 | New York.
M. W. Customs, Inc |  | 05323 | New York.
Mahler | Marilyn | 12052 | New York.
Maloney | James J | 04830 | New York.
Manuelian | George | 05969 | New York.
Mastrandrea-DeMatteis | Susan J | 12820 | New York.
McCarthy | Francis M | 04420 | New York.
McCarty | John T | 03987 | New York.
McCullough | Michael J | 16436 | New York.
McGeary | Thomas | 06303 | New York.
McTigue | Mary M | 13404 | New York.
Mejia-Gallardo | Armando | 33392 | New York.
Mercer | Michael J | 06955 | New York.
Miao | Yin Ho | 28216 | New York.
Mikell | Brenda J | 24058 | New York.
Minior | Christine | 07844 | New York.
Moore | Barbara J | 09720 | New York.
Navedo Salas | Rafael M | 16721 | New York.
NCHB Corporation |  | 23100 | New York.
Ng | Vicki | 31343 | New York.
Noriega | Gisela | 13953 | New York.
O'Donnell | Dennis | 06075 | New York.
O'Keefe | William M | 07857 | New York.
Olsen Jr | Stewart H | 06678 | New York.
Onpoint International, LLC |  | 30818 | New York.
O'Rourke | William J | 16615 | New York.
Palaganas | Arnaldo | 15622 | New York.
Panetta | Gladys S | 14021 | New York.
Papa | Angelo | 11406 | New York.
Pellino | Joseph | 07125 | New York.
Petrosini | Daniel | 06195 | New York.
Pontieri | Samuel | 05099 | New York.
Powell | Andrew F | 10707 | New York.
Pozo | Juan Del | 06026 | New York.
Pratt & Lee International LLC |  | 31759 | New York.
Priority Air Freight N.Y., Ltd |  | 14045 | New York.
Quadrino | Sue | 06025 | New York.
Quigley | Christine T | 16128 | New York.
Quinones | Miriam M | 07367 | New York.
Rea | Michael | 09585 | New York.
Ren | Meifei | 29365 | New York.
Resetar | Robert | 15265 | New York.
Right Way Logistics, Corp |  | 29927 | New York.
Rivera | Fernando | 04978 | New York.
Rossetti | Susan | 08087 | New York.
Royal CHB Corp |  | 21364 | New York.
Rudkoski | Donna | 09883 | New York.
Russell | Michael E | 22702 | New York.
Schepacarter | Florian | 11302 | New York.
Scherer | Michael J | 16371 | New York.
Scotti | Michael D | 07223 | New York.
Seredinsky | Richard W | 06870 | New York.
Singh | Harjinder P | 07196 | New York.
Smith | Jacqueline J | 11014 | New York.
Sodano | Robert | 10850 | New York.
Stein | Arthur | 12045 | New York.
Stern | Peter J | 08081 | New York.
Stile | Salvatore J | 03762 | New York.
Tang | Raoxu | 33708 | New York.
Todaro | Biagio | 07228 | New York.
Total Port Clearance, Inc |  | 08062 | New York.
Vatier | Barbara E | 07138 | New York.
Verrall Jr | Robert | 09676 | New York.
Villena | Bert F | 12583 | New York.
Vitale | Benjamin | 12030 | New York.
Wang | Ray | 33277 | New York.
Wayser | Jack | 10348 | New York.
Weidgans | Hannelore J | 10610 | New York.
Wells | John | 13795 | New York.
Whisler | Jonelle M | 14723 | New York.
Wood | Peter Teh-Hui | 10198 | New York.
Wu | Yongpeng | 31372 | New York.
Yamcek | Peter C | 03704 | New York.
Yang | Wei | 28898 | New York.
Yeung | Sarah | 07939 | New York.
Yin | Minjuan | 33659 | New York.
Ying | Justin | 33258 | New York.
Zhu | Zhiyuan | 23206 | New York.
DeFazio | Arthur F | 23378 | Nogales.
Elite Logistics Inc |  | 30445 | Nogales.
Ibanez | Juan | 29305 | Nogales.
Ivins | Edward G | 13420 | Nogales.
Lilly | Bryan | 13064 | Nogales.
Mier | Sergio | 31600 | Nogales.
Allen | Denise Roxanne | 21662 | Norfolk.
Bartz | Barbara Ann | 15822 | Norfolk.
Bond | Christina P | 07722 | Norfolk.
Forehand | Carroll Lee | 13060 | Norfolk.
Lanari | Sally J | 15194 | Norfolk.
Lennarz | Alison V | 23208 | Norfolk.
Mawyer | Erin Nicole | 29202 | Norfolk.
Murphy | Michael J | 05266 | Norfolk.
Myrick | Alton Wayne | 06213 | Norfolk.
U.S. Entre, Ltd |  | 27945 | Norfolk.
Williams | Roger A | 07724 | Norfolk.
Witt | Anne Lane | 22930 | Norfolk.
Burow | Glenn R | 13994 | Otay Mesa.
Cap Customhouse Broker, Inc |  | 23814 | Otay Mesa.
Cho | Keith | 28511 | Otay Mesa.
Cindrich | Michael E | 28930 | Otay Mesa.
Crockett | Mary Milinda | 12762 | Otay Mesa.
Gonzalez | Andrea Victoria | 30865 | Otay Mesa.
Gretencord | Georgann | 06818 | Otay Mesa.
Kruse | Loretta May | 11334 | Otay Mesa.
Lasalle | Dan A | 07660 | Otay Mesa.
Lewis | Myrna | 09563 | Otay Mesa.
Makey | Laura Martin | 14055 | Otay Mesa.
Nakai-Lee | Keiko | 28313 | Otay Mesa.
Neal Jr | Ronald A | 07428 | Otay Mesa.
Pettengil | Linda K | 17122 | Otay Mesa.
Ponsar | David Brian | 12835 | Otay Mesa.
Premier Customhouse Brokers, Inc |  | 30010 | Otay Mesa.
Rodriguez | Manuel | 11438 | Otay Mesa.
Slipek | Thomas J | 16743 | Otay Mesa.
Worldtrans Customs Brokers, Inc |  | 31628 | Otay Mesa.
Burau | Laura | 21591 | Pembina.
Napper | Susan M | 23519 | Pembina.
Olson | Martha R | 11576 | Pembina.
5K Logistics |  | 27977 | Philadelphia.
Bennett | David A | 06631 | Philadelphia.
Bolalek | Philip J | 21312 | Philadelphia.
Cardinal Trade Associates |  | 31239 | Philadelphia.
Cargo Express |  | 20105 | Philadelphia.
Ciaccio | Nicholas Antonio | 04719 | Philadelphia.
Corsi | Linda M | 21773 | Philadelphia.
Dostmann | Sharon M | 12809 | Philadelphia.
EPC Logistics |  | 31469 | Philadelphia.
Francis | Mary Lou | 09690 | Philadelphia.
Gray | Maureen E | 11682 | Philadelphia.
Grebe | James J | 07962 | Philadelphia.
Harris | Ryan M | 30575 | Philadelphia.
International Trade & Logistics Management |  | 24016 | Philadelphia.
Johnson | Edward | 07792 | Philadelphia.
Krohn | Risa Lauren | 21495 | Philadelphia.
Mc Glinchey | Patrick Thomas | 06821 | Philadelphia.
Morawski | Alfred S | 11876 | Philadelphia.
Nolan | John P | 07285 | Philadelphia.
Pickering | Edward H | 07195 | Philadelphia.
Rittersbacher | Michael | 12802 | Philadelphia.
Stucky | Max L | 17480 | Philadelphia.
Sumetskaya | Natalia | 27756 | Philadelphia.
Sweeney | Maryanne | 16445 | Philadelphia.
Tavella | Steven | 09743 | Philadelphia.
Teti | John S | 11684 | Philadelphia.
Walker | Shirley A | 17176 | Philadelphia.
Barry | Nancy E | 07896 | Portland, ME.
Chartier | Billie | 28550 | Portland, ME.
Anderson | Susan L | 22631 | Portland, OR.
Andrist | Leora Catherine | 05079 | Portland, OR.
Coleman Haggin Brokerage Inc |  | 30537 | Portland, OR.
Corey | Charles A | 14541 | Portland, OR.
Curtin | Charles | 28332 | Portland, OR.
Grader | Nancy | 14730 | Portland, OR.
Hazen | David | 30338 | Portland, OR.
Miller | Linda S | 16901 | Portland, OR.
Patrick | Donald L | 03511 | Portland, OR.
Smith | Kathryn Marie | 17026 | Portland, OR.
Twite | Gary A | 05588 | Portland, OR.
Wanless | Deborah L | 21738 | Portland, OR.
Williams | Nicole | 23994 | Portland, OR.
Wolfer | Dale E | 05072 | Portland, OR.
Yacob | Betsy A | 16665 | Portland, OR.
Boornazian | Gladys | 10431 | Providence.
Canning | Brent | 30689 | Providence.
Hundertmark | Diane Catherine | 7010 | Providence.
Oakley | Anne M | 15599 | Providence.
Sierra | Therese | 14119 | Providence.
Barczay | George T | 5305 | San Francisco.
Behr | Rosalie G | 17254 | San Francisco.
Boos | Andrea L | 13542 | San Francisco.
Brown | Vanessa | 32319 | San Francisco.
Cho | Esther | 29608 | San Francisco.
Cordry | Mindy | 14069 | San Francisco.
Crane | Gabriel S | 33314 | San Francisco.
D.F.M. International, Inc |  | 9770 | San Francisco.
Dell | Karen L | 17120 | San Francisco.
Do | Toan T | 32490 | San Francisco.
Flaherty | Robin K | 20958 | San Francisco.
Fleming | Jody L | 16694 | San Francisco.
Ghiorzoe | James E | 14720 | San Francisco.
Gleason | Susan H | 6449 | San Francisco.
Godfrey | Timothy M | 12139 | San Francisco.
Greenwood | Casey | 22616 | San Francisco.
Harper, Jr. | Lew H | 5161 | San Francisco.
Hashimoto | Ken E | 7073 | San Francisco.
Jarvis | Jan Franck | 22407 | San Francisco.
Kelly | Kelley M | 9655 | San Francisco.
Kelly | Timothy E | 13011 | San Francisco.
Kota | Shyam K | 33331 | San Francisco.
Kott | Jennifer V. E | 30885 | San Francisco.
Kwuan | Edward C | 29022 | San Francisco.
La Tinis | Karen L | 21617 | San Francisco.
Lee | Elseala | 11454 | San Francisco.
Leitner | John A | 5301 | San Francisco.
Liu | Min | 23164 | San Francisco.
Luy | Felix T | 14716 | San Francisco.
Mitchell | Patrick M | 29935 | San Francisco.
Nguyen | Huy | 29341 | San Francisco.
Novo Customs And Logistics LLC |  | 28384 | San Francisco.
Padilla | Grace | 23000 | San Francisco.
Parkinson | Jalyn R | 23948 | San Francisco.
Pepper | Scott B | 20161 | San Francisco.
Piskin | Evren | 33044 | San Francisco.
Prime Freight Forwarders, Inc |  | 22055 | San Francisco.
Robison | Joel V | 13120 | San Francisco.
Runner | Kathy A | 11409 | San Francisco.
Scott Jr | Edmund N | 5849 | San Francisco.
Spenta | Porus | 29921 | San Francisco.
Steinbock | Eric A | 11137 | San Francisco.
Swanson | Sandra | 5918 | San Francisco.
Syrova | Ursula Ingalls | 16353 | San Francisco.
Tam | Kelly | 12409 | San Francisco.
Van Den Broeke | Donna M | 17473 | San Francisco.
Vavao | Mildred L | 16961 | San Francisco.
Zhang | Suping H | 16649 | San Francisco.
Ackerman | Nancy O | 21774 | Savannah.
Appel-Revoir Incorporated |  | 22070 | Savannah.
Bill Fitch International |  | 14252 | Savannah.
Carlander | David Hall | 16056 | Savannah.
Erkus | Charles | 09405 | Savannah.
Fitch | Diane H | 09621 | Savannah.
Lapinski | Lisa | 15129 | Savannah.
Mills | Betty Rogers | 07677 | Savannah.
Mitchell | Louis J | 14530 | Savannah.
Nebel | Nancy L | 15557 | Savannah.
Neil | Arthur G | 15556 | Savannah.
Nelson | Deborah Holton | 10947 | Savannah.
Pellino | Lawrence A | 12607 | Savannah.
Peterson | Kay J | 10927 | Savannah.
Randolph | Debra G | 14859 | Savannah.
Simpson | Richard H | 05919 | Savannah.
Sloan | Rebecca D | 14131 | Savannah.
Stepka International |  | 15039 | Savannah.
Stokes | Candace Rast | 14453 | Savannah.
Wall | Tammy G | 14125 | Savannah.
White | David H | 13903 | Savannah.
Worster | Erich C | 13608 | Savannah.
Yu | Helena Chiasian | 16153 | Savannah.
Anderson | Kelsey | 23883 | Seattle.
Brown | Sandra J | 09440 | Seattle.
Cadigan | Jessica | 28260 | Seattle.
Cornett Jr | Robert A | 06685 | Seattle.
Forbes | Shelley W | 22083 | Seattle.
Forman | Ruth L | 15376 | Seattle.
Gill | Brian D | 06513 | Seattle.
Gliva | Thomas F | 23334 | Seattle.
Gouker | Leslie M | 11332 | Seattle.
Gwin | Billy J | 06002 | Seattle.
Gwin Customs Consulting, Inc |  | 23512 | Seattle.
Hernandez | Emily | 33237 | Seattle.
Iverson | Robin D | 09731 | Seattle.
Jensen | Jerald A | 30694 | Seattle.
Kuiper | Christine M | 15465 | Seattle.
Law | Robert A | 23038 | Seattle.
Leary | John Kelly | 07917 | Seattle.
Lee | Rahn B | 32280 | Seattle.
Lorentz | Li-Ching H | 09000 | Seattle.
Madlen | Donna K | 15901 | Seattle.
Morts | Denise | 21668 | Seattle.
Nakamoto | Richard M | 09142 | Seattle.
Nieswandt | Marcella Helena | 14975 | Seattle.
Osborne | Crystal L | 07014 | Seattle.
Rane | Jonna | 21869 | Seattle.
Rice | Roslyn | 20060 | Seattle.
Robinson | Emily G | 32318 | Seattle.
Summers | Joanne M | 08036 | Seattle.
Swett | Douglas A | 06223 | Seattle.
Swinburnson | Cory M | 07245 | Seattle.
Thorsteinson | Benjamin S | 07053 | Seattle.
Tust | Carl J | 17050 | Seattle.
Tuvey | Amy B | 13455 | Seattle.
Whitson | John | 28779 | Seattle.
Wild | Joanne | 21938 | Seattle.
Wolf | Henry H | 20796 | Seattle.
Randall | Anne | 20693 | St. Albans.
Tessier | Donald | 12516 | St. Albans.
Cook | Judy L | 4926 | St. Louis.
Cybulski | Sarah E | 17231 | St. Louis.
Ellgen | Eric J | 17010 | St. Louis.
Held And Associates, Inc |  | 7409 | St. Louis.
Johnson | Nicholas | 33598 | St. Louis.
Jung | Nicholas | 31410 | St. Louis.
Lainfiesta | Mario | 28726 | St. Louis.
Lange | Steven | 27754 | St. Louis.
Money | Steven | 16246 | St. Louis.
O'Ryan | Cindy M | 23939 | St. Louis.
Wooderson | Jeryl A | 31398 | St. Louis.
Cline, II | Walter M | 07890 | Tampa.
Groppe | Robert G | 15013 | Tampa.
Huck | Barbara E | 28949 | Tampa.
Polotto | Florence Blanche | 15033 | Tampa.
Pomerantz | Susan M | 07728 | Tampa.
Redden | James Hale | 15364 | Tampa.
Reedy Forwarding Co |  | 03169 | Tampa.
Sedar | Michael | 21294 | Tampa.
Shiffer | Suzanne Y | 13762 | Tampa.
Valdivia | Jeannette T | 06053 | Tampa.
Van Brackle | Steven L | 16771 | Tampa.
Von Keyserling | Michael | 33019 | Tampa.
Waters | Betty J | 07729 | Tampa.
Cawley | Stephen | 9299 | Washington, DC.
Cosimano | G. | 4726 | Washington, DC.
Crain | Roger | 11440 | Washington, DC.
Genesis Forwarding Serv. Inc |  | 20610 | Washington, DC.
Harmonized Tariff Services LLC |  | 27856 | Washington, DC.
Henderson | Frances | 16562 | Washington, DC.
Kemper | Matthew | 28177 | Washington, DC.
Owens | Cheryl | 15208 | Washington, DC.
Perricone | Christopher | 28117 | Washington, DC.

Dated: August 18, 2022.
AnnMarie R. Highsmith,
Executive Assistant Commissioner, Office of Trade.

[FR Doc. 2022-18213 Filed 8-23-22; 8:45 am]

BILLING CODE 9111-14-P